DEPARTMENT OF DEFENSE

Department of the Army; Corps of Engineers

Grant of Partially Exclusive Licenses

AGENCY: Department of the Army, U.S. Corps of Engineers, DoD.

ACTION: Notice.

SUMMARY: The Department of the Army, U.S. Army Corps of Engineers, announces the general availability of partially exclusive licenses under the following pending patents listed under SUPPLEMENTARY INFORMATION. Any license granted shall comply with 35 U.S.C. 209 and 37 CFR part 404.

DATES: Applications for an exclusive or partially exclusive license may be submitted at any time from the date of this notice. However, no exclusive or partially exclusive license shall be granted until February 24, 2005.

ADDRESSES: Humphreys Engineer Center Support Activity, Office of Counsel, 7701 Telegraph Road, Alexandria, VA 22315-3860.

FOR FURTHER INFORMATION CONTACT: Patricia L. Howland (703) 428-6672.

SUPPLEMENTARY INFORMATION: 1. Title: Corrosion-Resistant Structure Incorporating Zinc or Zinc-Alloy Plated Lead or Lead-Alloy Wires and Methods of Making Same. Structure incorporating lead is fabricated from specially prepared components such that mobility of the lead is impeded when the structure is exposed to an unprotected environment such as weathering outdoors or saltwater. In a preferred embodiment, a bullet or bullet core is swaged from a number of bunched electroplated fine lead or lead-alloy wires placed in a die. The lead or lead-alloy wires may be fabricated from lead or lead-alloy wool. The lead alloy may comprise zinc and antimony. The electroplating process plates zinc on the fine wires and may plate a zinc alloy such as zinc-aluminum. The plated surface may be coated with a corrosion resistant coating such as molybdenum phosphate. In addition to bullets and bullet cores, fishing weights, lead shielding, counterweights, ballast, and other lead containing structure may be fabricated or treated using methods and materials of the present invention.

Serial No.: 10/462,707.

Date: 6/17/2003.

2. Title: Deconvolution Technique Employing Hermite Functions. A procedure generates deconvolution algorithms by first solving a general convolution integral exactly. Results are transformed, yielding a linear relationship between actual (undistorted) and captured (distorted) data. Hermite functions and the Fourier-Hermite series represent the two data classes. It circumvents the need for solving incompatible systems of linear equations derived from “numerically discretizing” convolution integrals, i.e., the convolution integral is not evaluated. It is executed by exploiting a mathematical coincidence that the most common Point spread Function (PSF) used to characterize a device is a Gaussian function that is also a Fourier-Hermite function of zero order. By expanding the undistorted data in a Fourier-Hermiteh series, the convolution integral becomes analytically integrable. It also avoids an inherent problem of dividing by decimal “noisy data” values in conventional “combined deconvolution” in that division is by a function of the PS parameters yielding divisors generally greater than one.

Serial No.: 10/658,285.

Date: 9/10/2003.

3. Title: Automated Resource Management System (ARMS™). The Automated Resource Management System (ARMS™) automates collection, integration, analysis, reporting and archiving of data in a variety of applications while insuring data accuracy and reliability not attainable conventionally. Applications include: environmental, safety, security, military, educational, emergency management, land use, fish and wildlife management, construction and maintenance of highways and waterways, mining, exploration, manufacturing, recreational management, urban restoration, and archaeological preservation. ARMS™ integrates a number of portable devices, employing digital technology and specialized software in these portable devices as well as analysis devices, such as PCs and servers. ARMS™ increases efficiency and reduces cost, while accurately and timely preserving and integrating information. It is useful for both post-processing and real-time reporting, analysis, and pro-active direction of ongoing investigations.

Serial No: 10/729,269.

Date: 12/8/2003.

4. Title: System Employing Wireless Means for Governing Operation of an Apparatus and Methods of use Therefor. A system employing principles of the present invention governs operation of an apparatus by an operator. An embodiment of the present invention comprises means for receiving at least one signal, portable means affixed to the operator for transmitting the signal, and means for inactivating or interrupting the operation of the apparatus should the operator be beyond a pre-specified distance from the controls of the apparatus. The means for inactivating communicates with both the means for receiving and the apparatus, while the means for transmitting sends the signal to the means for receiving during normal operation of the apparatus, e.g., with the operator physically present. Without the presence of the signal, operation of the apparatus is interrupted. One embodiment provides for an emergency override of the system to permit operation of the apparatus without the presence of the signal. Methods of using embodiments of the present invention are also provided.

Serial No: 10/778,706.

Date: 2/11/2004.

5. Title: A Portable Nuclear Detector. A portable nuclear material detector generally includes a scintillating fiber radiation sensor, a light detector, a conditioning circuit, a frequency shift keying (FSK) circuit, a fast Fourier transform (FFT) circuit, an electronic controller, an amplitude spectral addition circuit, and an output device. A high voltage direct current (HVDC) source is provided to excite the light detector, while a separate power supply may be provided to power the remaining components. Portability is facilitated by locating the components of the detector within a handheld-sized housing. When bombarded by gamma particles, the radiation sensor emits light, which is detected by the light detector and converted into electrical signals. These electrical signals are then conditioned and converted to spectral lines. The frequency of a give spectral line is associated with a particular radioactive isotope, while the cumulative amplitude of all spectral lines having a common frequency is indicative of the strength and location of the isotope. All or part of this information (identity, strength, direction and distance) may be provided on the output device.

Serial No: 10/795,363.

Date: 3/9/2004.

6. Title: Modular Barrier System for Satisfying Needs Unique to a Specific User. Components and system for limiting access and egress. A properly scaled barrier of the present invention meets varied requirements for applications that include: security, safety, order, privacy and discipline. In one embodiment, pre-manufactured panels and connectors are delivered to a site that has been prepared for installation of the system. Local materials may be used for the panels in some cases. The panels and connectors can be assembled quickly by unskilled labor and, in some embodiments, the barrier just as quickly dismantled or repaired as necessary. One embodiment may be used as a temporary or emergency solution to access control while another may employ in-fill material to provide a permanent barrier. Another embodiment may be used in a residential setting, providing storage in some installations. In all embodiments, accessories for enhancing effectiveness may be installed on or within the barrier.

Serial No: 10/795,364.

Date: 3/9/2004.

7. Title: Measurement Device and Method. Apparatus for determining the thickness of a configuration having flat, parallel surfaces that are transparent, or nearly so, to pre-specified types of energy. Embodiments comprise a mechanism for illuminating a front surface with an energy source and mechanisms for measuring reflections of the illumination from a parallel back surface. The energy is contained in a spectrum of wavelengths, the energy being refracted in components at unique wavelengths, e.g., different colored light bands, and similarly reflected from the back surface. The measuring mechanisms, e.g., spectrometers, determine the relative lateral displacement between two spectral lines in the refracted and reflected beams to enable determination of thickness. Other characteristics of the material of the configuration may be ascertained, e.g., chemical composition is ascertained by measuring the intensity of responses at multiple wavelengths and comparing this to responses of known materials.

Serial No: 10/867,700.

Date: 6/16/2004.

8. Title: Knowledged-Based Condition Survey Inspection (KBCSI) Framework and Procedure. A knowledge-based condition survey inspection (KBSCI) framework and procedure for use with an engineering management system (EMS) that tailors types of condition survey inspections (CSIs) and inspection intervals to empirically-established life cycles of component-sections. Embodiments of the invention facilitate proactive life cycle management, scheduling appropriate types of CSIs only when needed. The frequency and type of inspection is tailored to items important to a facility manager, such as the importance to the operation of individual component-sections and their individual life cycle, not the overall life cycle of a system or facility. Further, additional useful information is available from the data collected to maintain embodiments of the KBCSI framework so that meaningful “What-If” analysis may be performed in support of decision makers. By tailoring CSIs to needs rather than an arbitrary inspection schedule designed to only catch deficiencies, significant life cycle cost savings are realized.

Serial No: 10/886,609.

Date: 8/24/2004.

9. Title: Self-Healing Coatings Using Microcapsules. Self-healing coatings incorporate microcapsules of about 60-150 microns diameter that contain film formers and dust suppression compounds suitable for controlling spalling of lead dust, for example. In one embodiment, a primer paint is mixed with these microcapsules and applied by brushing or rolling. After the coating has cured, any physical compromise of the coating results in microcapsules bursting to release liquid that fills and seals the compromised volume. The microcapsule contents protect the underlying substrate from damage and repair some of the outer coating. In one application, embodiments of these self-healing coatings seal existing lead-based paint for suppression of lead dust. In another embodiment, microcapsules are provided separately to enhance commercially available products. For example, if a paint formulation is known a priori, specifically configured microcapsules, packaged separately from the paint and designed for use with the paint formulation, are added to the paint just prior to application.

Serial No: 10/923,890.

Date: 8/24/2004.

10. Title: Perlite Sorbents for Vapor Phase Metals and Metal Compounds. Perlite, particularly, perlite in powdered form, is employed to adsorb metals and metal compounds from a fluid flow. In select embodiments, the perlite is treated to expand its surface area and injected into a fluid stream, such as flue gas, held for a specific retention period, and removed for subsequent disposal. In other embodiments the perlite is provided in a fixed adsorption bed and the fluid flow permitted to pass through the bed until the perlite surface is exhausted. The perlite in the fixed bed is then replaced, with the exhausted perlite disposed of as appropriate. Treatment of perlite by boiling with sulfuric acid or suspending in a suspension of sulfur in carbon disulfide has been shown to significantly expand the surface area of perlite.

Serial No: 10/931,232.

Date: 9/1/2004.

11. Title: Embedded Metal to Fluid Flow. A barrier to fluid passage is embedded within, instead of atop, porous material to retain the durability of the surface of the porous material. In one embodiment, a thin set mortar is applied to a concrete slab. A pleated metal foil is pressed into the wet mortar and a bond is established. The mortar is allowed to set and a top, or finish, section of concrete is then poured over the foil and finished conventionally. Provisions are made for sealing expansion joints in concrete slab floors and at the juncture of floor and wall. The foil may be provided in multiple layers to provide a mechanical bond via the concrete or mortar oozing through perforation or along pleats in each of the top and bottoms layers of the multi-layer foil, while providing at least one solid layer through which a fluid will not pass, at least in one direction.

Serial No: 10/715,430.

Date: 11/19/2003.

Richard L. Frenette,
Counsel.

[FR Doc. 04-26137 Filed 11-24-04; 8:45 am]

BILLING CODE 3710-92-P